DEPARTMENT OF COMMERCE

International Trade Administration

[A-533-502]

Welded Carbon Steel Standard Pipes and Tubes From India: Final Results of Antidumping Duty Administrative Review; 2017-2018

AGENCY: Enforcement and Compliance, International Trade Administration, Department of Commerce.

SUMMARY: The Department of Commerce (Commerce) determines that the producers/exporters subject to this review made sales of subject merchandise in the United States at less than normal value during the period of review (POR) May 1, 2017 through April 30, 2018.

DATES: Applicable January 16, 2020.

FOR FURTHER INFORMATION CONTACT: Dmitry Vladimirov, AD/CVD Operations, Office I, Enforcement and Compliance, International Trade Administration, U.S. Department of Commerce, 1401 Constitution Avenue NW Washington, DC 20230; telephone: (202) 482-0665.

SUPPLEMENTARY INFORMATION:

Background

On July 16, 2019, Commerce published the Preliminary Results of the 2017-2018 administrative review of the antidumping duty order on welded carbon steel standard pipes and tubes (pipe and tube) from India.¹ The administrative review covers 27 producers or exporters of the subject merchandise. We invited interested parties to comment on the Preliminary Results and received case and rebuttal briefs from interested parties.² On October 24, 2019, Commerce extended the deadline for the final results by 57 days to January 9, 2020.³

¹ See Welded Carbon Steel Standard Pipes and Tubes from India: Preliminary Results of Antidumping Duty Administrative Review; 2017-2018, 84 FR 33916 (July 16, 2019) (Preliminary Results) and accompanying Decision Memorandum (Preliminary Decision Memorandum).

² See Independence Tube Corporation and Southland Tube, Incorporated's (collectively, the domestic interested parties (i.e., DIPs)) Letter, “Certain Welded Carbon Steel Standard Pipes and Tubes from India: Case Brief,” dated August 27, 2019; see also Garg Tube Export LLP and Garg Tube Limited's (collectively, Garg Tube) Letter, “Garg Tube's Administrative Case Brief: Administrative Review of the Antidumping Duty Order on Certain Welded Carbon Steel Standard Pipes and Tubes from India,” dated August 27, 2019; DIPs' Letter, “Certain Welded Carbon Steel Standard Pipes and Tubes from India: Rebuttal Brief,” dated September 3, 2019; and Garg Tube's Letter, “Garg Tube's Rebuttal Brief: Administrative Review of the Antidumping Duty Order on Certain Welded Carbon Steel Standard Pipes and Tubes from India,” dated September 3, 2019.

³ See Memorandum, “Welded Carbon Steel Standard Pipes and Tubes from India: Extension of Deadline for Final Results of Antidumping Duty Administrative Review,” dated October 24, 2019.

Commerce conducted this review in accordance with section 751(a)(1)(B) of the Tariff Act of 1930, as amended (the Act).

Scope of the Order

The merchandise subject to the order is pipe and tube. The pipe and tube subject to the order is currently classifiable under subheadings 7306.30.1000, 7306.30.5025, 7306.30.5032, 7306.30.5040, 7306.30.5055, 7306.30.5085, 7306.30.5090 of the Harmonized Tariff Schedule of the United States (HTSUS). While the HTSUS subheadings are provided for convenience and customs purposes, the written description is dispositive. A full description of the scope of the order is contained in the Issues and Decision Memorandum.⁴

⁴ See Memorandum, “Welded Carbon Steel Standard Pipes and Tubes from India: Issues and Decision Memorandum for the Final Results of Antidumping Duty Administrative Review; 2017/18” dated concurrently with, and hereby adopted by this notice (Issues and Decision Memorandum).

Analysis of Comments Received

All issues raised in the case and rebuttal briefs by parties in this review are addressed in the Issues and Decision Memorandum. The Issues and Decision Memorandum is a public document and is made available to the public via Enforcement and Compliance's Antidumping and Countervailing Duty Centralized Electronic Service System (ACCESS). ACCESS is available to registered users at http://access.trade.gov, and ACCESS is available to all parties in the Central Records Unit, Room B8024 of the main Commerce building. In addition, a complete version of the Issues and Decision Memorandum can be accessed directly on the Enforcement and Compliance website at http://enforcement.trade.gov/frn/. The signed Issues and Decision Memorandum and the electronic version of the Issues and Decision Memorandum are identical in content. A list of the topics discussed in the Issues and Decision Memorandum is attached as an Appendix to this notice.

Changes Since the Preliminary Results

Based on the comments received we made changes for these final results which are enumerated in the Issues and Decision Memorandum.

Final Results of the Administrative Review

We determine that the following weighted-average dumping margins exist for the period May 1, 2017 through April 30, 2018.

Producer or exporter | Weighted-average dumping margin (percent)
Apl Apollo Tubes Limited | 87.39
Garg Tube Export LLP and Garg Tube Limited (collectively Garg Tube) | 11.83
Asian Contec Ltd | 11.83
Bhandari Foils & Tubes Ltd | 11.83
Bhushan Steel Ltd | 11.83
Blue Moon Logistics Pvt. Ltd | 11.83
CH Robinson Worldwide | 11.83
Ess-Kay Engineers | 11.83
Manushi Enterprise | 11.83
Nishi Boring Corporation | 11.83
Fiber Tech Composite Pvt. Ltd | 11.83
GCL Private Limited | 11.83
Goodluck India Ltd | 11.83
GVN Fuels Ltd | 11.83
Hydromatik | 11.83
Jindal Quality Tubular Ltd | 11.83
KLT Automatic & Tubular Products Ltd | 11.83
Lloyds Line Pipes Ltd | 11.83
MARINEtrans India Private Ltd | 11.83
Patton International Ltd | 11.83
SAR Transport Systems Pvt. Ltd | 11.83
Surya Global Steel Tubes Ltd | 11.83
Surya Roshni Ltd | 11.83
Welspun India Ltd | 11.83
Zenith Birla (India) Ltd | 11.83
Zenith Birla Steels Private Ltd | 11.83
Zenith Dyeintermediates Ltd | 11.83

Disclosure

We intend to disclose the calculations performed in connection with these final results to parties in this proceeding within five days after the date of publication of the final results, in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review.

For Garg Tube, we calculated importer-specific assessment rates on the basis of the ratio of the total amount of dumping calculated for each importer's examined sales and the total entered value of those sales in accordance with 19 CFR 351.212(b)(1).⁵ Where an importer-specific assessment rate is de minimis (i.e., less than 0.5 percent), the entries by that importer will be liquidated without reference to antidumping duties. For entries of Garg Tube's merchandise during the period of review for which it did not know the merchandise was destined for the United States, we will instruct CBP to liquidate unreviewed entries at the all-others rate if there is no rate for the intermediate company(ies) involved in the transaction.

⁵ In these final results, Commerce applied the assessment rate calculation method adopted in Antidumping Proceedings: Calculation of the Weighted-Average Dumping Margin and Assessment Rate in Certain Antidumping Duty Proceedings; Final Modification, 77 FR 8101 (February 14, 2012).

For Apl Apollo Tubes Limited ⁶ and the 25 companies which were not selected for individual examination,⁷ we will instruct CBP to assess antidumping duties at a rate equal to each company's weighted-average dumping margin in these final results of review.

⁶ The rate for this company was determined on the basis of facts otherwise available with an adverse inference. See Preliminary Decision Memorandum, section “Application of Facts Available with an Adverse Inference,” uncontested and unchanged in these final results.

⁷ These companies are Asian Contec Ltd., Bhandari Foils & Tubes Ltd., Bhushan Steel Ltd., Blue Moon Logistics Pvt. Ltd., CH Robinson Worldwide, Ess-Kay Engineers, Manushi Enterprise, Nishi Boring Corporation, Fiber Tech Composite Pvt. Ltd., GCL Private Limited, Goodluck India Ltd., GVN Fuels Ltd., Hydromatik, Jindal Quality Tubular Ltd., KLT Automatic & Tubular Products Ltd., Lloyds Line Pipes Ltd., MARINEtrans India Private Ltd., Patton International Ltd., SAR Transport Systems Pvt. Ltd., Surya Global Steel Tubes Ltd., Surya Roshni Ltd., Welspun India Ltd., Zenith Birla (India) Ltd., Zenith Birla Steels Private Ltd., and Zenith Dyeintermediates Ltd.

In accordance with Commerce's “automatic assessment” practice, for entries of subject merchandise during the POR produced by each respondent for which it did not know that its merchandise was destined for the United States, we will instruct CBP to liquidate unreviewed entries at the all-others rate if there is no rate for the intermediate company(ies) involved in the transaction.⁸

⁸ See Antidumping and Countervailing Duty Proceedings: Assessment of Antidumping Duties, 68 FR 23954 (May 6, 2003).

We intend to issue liquidation instructions to CBP 15 days after publication of these final results of review.

Cash Deposit Requirements

The following cash deposit requirements will be effective upon publication in the Federal Register of this notice for all shipments of pipe and tube from India entered, or withdrawn from warehouse, for consumption on or after the date of publication as provided by section 751(a)(2) of the Act: (1) The cash deposit rate for companies subject to this review will be equal to the weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; (4) the cash deposit rate for all other producers or exporters will continue to be 7.08 percent, the all-others rate established in the less-than-fair-value investigation for this proceeding.⁹ These cash deposit requirements, when imposed, shall remain in effect until further notice.

⁹ See Antidumping Duty Order; Certain Welded Carbon Steel Standard Pipes and Tubes from India, 51 FR 17384 (May 12, 1986).

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these results of administrative review in accordance with sections 751(a) and 777(i) of the Act and 19 CFR 351.221(b)(5).

Dated: January 9, 2020.
Jeffrey I. Kessler,
Assistant Secretary for Enforcement and Compliance.

Appendix

List of Topics Discussed in the Issues and Decision Memorandum

I. Summary

II. Background

III. Scope of the Order

IV. Changes Since the Preliminary Results

V. Discussion of the Issues

VI. Recommendation

[FR Doc. 2020-00641 Filed 1-15-20; 8:45 am]

BILLING CODE 3510-DS-P